DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT:

OFAC: Associate Director for Global Targeting, tel.: 202-622-2420; Assistant Director for Licensing, tel.: 202-622-2480; Assistant Director for Regulatory Affairs, tel.: 202-622-4855; Assistant Director for Sanctions Compliance & Evaluation, tel.: 202-622-2490; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Actions

On December 19, 2018 OFAC determined that the property and interests in property subject to U.S. jurisdiction of the following persons are blocked under the relevant sanctions authorities listed below.

Individuals

1. BOYARKIN, Victor Alekseyevich (Cyrillic: БОЯРКИН, Виктор Алексеевич) (a.k.a. BOYARKIN, V.A. (Cyrillic: БОЯРКИН, В.А.); a.k.a. BOYARKIN, Victor; a.k.a. BOYARKIN, Victor Alekseevich; a.k.a. BOYARKIN, Viktor), #189, 20, BLD1, Generala Beloborodova, Moscow, Federal District 125222, Russia; DOB 12 Oct 1958; POB Meschovsk, Russia; nationality Russia; citizen Russia; Additional Sanctions Information—Subject to Secondary Sanctions; Gender Male; Passport 200042334 (Russia); alt. Passport 642348547 (Russia) (individual) [UKRAINE-EO13661] [UKRAINE-EO13662] (Linked To: DERIPASKA, Oleg Vladimirovich).

Designated pursuant to section 1(a)(ii)(C)(2) of Executive Order 13661 of March 16, 2014, “Blocking Property of Additional Persons Contributing to the Situation in Ukraine” (E.O. 13661) for having acted or purported to act for or on behalf of, directly or indirectly, Oleg DERIPASKA, a person whose property and interests in property are blocked pursuant to E.O. 13661.

Designated pursuant to section 1(a)(iii) of Executive Order 13662 of March 20, 2014, “Blocking Property of Additional Persons Contributing to the Situation in Ukraine” (E.O. 13662) for having acted or purported to act for or on behalf of, directly or indirectly, Oleg DERIPASKA, a person whose property and interests in property are blocked pursuant to E.O. 13662.

2. CHEPIGA, Anatoliy Vladimirovich (a.k.a. BOSHIROV, Ruslan), Moscow, Russia; DOB 05 Apr 1979; alt. DOB 12 Apr 1978; POB Nikolaevka, Amur Oblast, Russia; alt. POB Dushanbe, Tajikistan; nationality Russia; Gender Male (individual) [CAATSA—RUSSIA] (Linked To: MAIN INTELLIGENCE DIRECTORATE).

Designated pursuant to section 224(a)(1)(B) of the Countering America's Adversaries Through Sanctions Act, Public Law 115-44, (CAATSA), for acting or purporting to act for or on behalf of, directly or indirectly, the MAIN INTELLIGENCE DIRECTORATE, an entity whose property and interests in property are blocked pursuant to 224(a)(1)(A) of CAATSA.

3. MISHKIN, Alexander Yevgeniyevich (a.k.a. PETROV, Alexander), Moscow, Russia; DOB 13 Jul 1979; POB Loyga, Russia; alt. POB Kotlas, Russia; nationality Russia; Gender Male (individual) [CAATSA—RUSSIA] (Linked To: MAIN INTELLIGENCE DIRECTORATE).

Designated pursuant to section 224(a)(1)(B) of CAATSA, for acting or purporting to act for or on behalf of, directly or indirectly, the MAIN INTELLIGENCE DIRECTORATE, an entity whose property and interests in property are blocked pursuant to 224(a)(1)(A) of CAATSA.

4. ANTONOV, Boris Alekseyevich, Russia; DOB 19 Dec 1980; nationality Russia; Gender Male (individual) [CAATSA—RUSSIA] (Linked To: MAIN INTELLIGENCE DIRECTORATE).

Designated pursuant to section 224(a)(1)(A) of CAATSA, for knowingly engaging in significant activities undermining cybersecurity against any person, including a democratic institution, or government on behalf of the Government of the Russian Federation.

Also designated pursuant to section 224(a)(1)(B) of CAATSA, for acting or purporting to act for or on behalf of, directly or indirectly, the MAIN INTELLIGENCE DIRECTORATE, an entity whose property and interests in property are blocked pursuant to 224(a)(1)(A) of CAATSA.

5. KOVALEV, Anatoliy Sergeyevich, Russia; DOB 02 Aug 1991; nationality Russia; Gender Male (individual) [CAATSA-RUSSIA] (Linked To: MAIN INTELLIGENCE DIRECTORATE).

Designated pursuant to section 224(a)(1)(A) of CAATSA, for knowingly engaging in significant activities undermining cybersecurity against any person, including a democratic institution, or government on behalf of the Government of the Russian Federation.

Also designated pursuant to section 224(a)(1)(B) of CAATSA, for acting or purporting to act for or on behalf of, directly or indirectly, the MAIN INTELLIGENCE DIRECTORATE, an entity whose property and interests in property are blocked pursuant to 224(a)(1)(A) of CAATSA.

6. KOZACHEK, Nikolay Yuryevich, Russia; DOB 29 Jul 1989; nationality Russia; Gender Male (individual) [CAATSA-RUSSIA] (Linked To: MAIN INTELLIGENCE DIRECTORATE).

Designated pursuant to section 224(a)(1)(A) of CAATSA, for knowingly engaging in significant activities undermining cybersecurity against any person, including a democratic institution, or government on behalf of the Government of the Russian Federation.

Also designated pursuant to section 224(a)(1)(B) of CAATSA, for acting or purporting to act for or on behalf of, directly or indirectly, the MAIN INTELLIGENCE DIRECTORATE, an entity whose property and interests in property are blocked pursuant to 224(a)(1)(A) of CAATSA.

7. LUKASHEV, Aleksey Viktorovich, Russia; DOB 07 Nov 1990; nationality Russia; Gender Male (individual) [CAATSA-RUSSIA] (Linked To: MAIN INTELLIGENCE DIRECTORATE).

Designated pursuant to section 224(a)(1)(A) of CAATSA, for knowingly engaging in significant activities undermining cybersecurity against any person, including a democratic institution, or government on behalf of the Government of the Russian Federation.

Also designated pursuant to section 224(a)(1)(B) of CAATSA, for acting or purporting to act for or on behalf of, directly or indirectly, the MAIN INTELLIGENCE DIRECTORATE, an entity whose property and interests in property are blocked pursuant to 224(a)(1)(A) of CAATSA.

8. MALYSHEV, Artem Andreyevich, Russia; DOB 02 Feb 1988; nationality Russia; Gender Male (individual) [CAATSA-RUSSIA] (Linked To: MAIN INTELLIGENCE DIRECTORATE).

Designated pursuant to section 224(a)(1)(A) of CAATSA, for knowingly engaging in significant activities undermining cybersecurity against any person, including a democratic institution, or government on behalf of the Government of the Russian Federation.

Also designated pursuant to section 224(a)(1)(B) of CAATSA, for acting or purporting to act for or on behalf of, directly or indirectly, the MAIN INTELLIGENCE DIRECTORATE, an entity whose property and interests in property are blocked pursuant to 224(a)(1)(A) of CAATSA.

9. MININ, Alexey Valerevich, Russia; DOB 27 May 1972; nationality Russia; Gender Male; Passport 120017582 (individual) [CAATSA-RUSSIA] (Linked To: MAIN INTELLIGENCE DIRECTORATE).

Designated pursuant to section 224(a)(1)(A) of CAATSA, for knowingly engaging in significant activities undermining cybersecurity against any person, including a democratic institution, or government on behalf of the Government of the Russian Federation.

Also designated pursuant to section 224(a)(1)(B) of CAATSA, for acting or purporting to act for or on behalf of, directly or indirectly, the MAIN INTELLIGENCE DIRECTORATE, an entity whose property and interests in property are blocked pursuant to 224(a)(1)(A) of CAATSA.

10. MORENETS, Aleksei Sergeyevich, Russia; DOB 31 Jul 1977; nationality Russia; Gender Male; Passport 100135556 (individual) [CAATSA-RUSSIA] (Linked To: MAIN INTELLIGENCE DIRECTORATE).

Designated pursuant to section 224(a)(1)(A) of CAATSA, for knowingly engaging in significant activities undermining cybersecurity against any person, including a democratic institution, or government on behalf of the Government of the Russian Federation.

Also designated pursuant to section 224(a)(1)(B) of CAATSA, for acting or purporting to act for or on behalf of, directly or indirectly, the MAIN INTELLIGENCE DIRECTORATE, an entity whose property and interests in property are blocked pursuant to 224(a)(1)(A) of CAATSA.

11. NETYKSHO, Viktor Borisovich, Russia; DOB 08 Sep 1966; nationality Russia; Gender Male (individual) [CAATSA-RUSSIA] (Linked To: MAIN INTELLIGENCE DIRECTORATE).

Designated pursuant to section 224(a)(1)(A) of CAATSA, for knowingly engaging in significant activities undermining cybersecurity against any person, including a democratic institution, or government on behalf of the Government of the Russian Federation.

Also designated pursuant to section 224(a)(1)(B) of CAATSA, for acting or purporting to act for or on behalf of, directly or indirectly, the MAIN INTELLIGENCE DIRECTORATE, an entity whose property and interests in property are blocked pursuant to 224(a)(1)(A) of CAATSA.

12. OSADCHUK, Aleksandr Vladimirovich, Russia; DOB 17 Nov 1962; nationality Russia; Gender Male (individual) [CAATSA-RUSSIA] (Linked To: MAIN INTELLIGENCE DIRECTORATE).

Designated pursuant to section 224(a)(1)(A) of CAATSA, for knowingly engaging in significant activities undermining cybersecurity against any person, including a democratic institution, or government on behalf of the Government of the Russian Federation.

Also designated pursuant to section 224(a)(1)(B) of CAATSA, for acting or purporting to act for or on behalf of, directly or indirectly, the MAIN INTELLIGENCE DIRECTORATE, an entity whose property and interests in property are blocked pursuant to 224(a)(1)(A) of CAATSA.

13. POTEMKIN, Aleksey Aleksandrovich, Russia; DOB 20 Mar 1983; nationality Russia; Gender Male (individual) [CAATSA-RUSSIA] (Linked To: MAIN INTELLIGENCE DIRECTORATE).

Designated pursuant to section 224(a)(1)(A) of CAATSA, for knowingly engaging in significant activities undermining cybersecurity against any person, including a democratic institution, or government on behalf of the Government of the Russian Federation.

Also designated pursuant to section 224(a)(1)(B) of CAATSA, for acting or purporting to act for or on behalf of, directly or indirectly, the MAIN INTELLIGENCE DIRECTORATE, an entity whose property and interests in property are blocked pursuant to 224(a)(1)(A) of CAATSA.

14. SEREBRIAKOV, Evgenii Mikhaylovich, Russia; DOB 26 Jul 1981; nationality Russia; Gender Male; Passport 100135555 (individual) [CAATSA-RUSSIA] (Linked To: MAIN INTELLIGENCE DIRECTORATE).

Designated pursuant to section 224(a)(1)(A) of CAATSA, for knowingly engaging in significant activities undermining cybersecurity against any person, including a democratic institution, or government on behalf of the Government of the Russian Federation.

Also designated pursuant to section 224(a)(1)(B) of CAATSA, for acting or purporting to act for or on behalf of, directly or indirectly, the MAIN INTELLIGENCE DIRECTORATE, an entity whose property and interests in property are blocked pursuant to 224(a)(1)(A) of CAATSA.

15. SOTNIKOV, Oleg Mikhaylovich, Russia; DOB 24 Aug 1972; nationality Russia; Gender Male; Passport 120018866 (individual) [CAATSA-RUSSIA] (Linked To: MAIN INTELLIGENCE DIRECTORATE).

Designated pursuant to section 224(a)(1)(A) of CAATSA, for knowingly engaging in significant activities undermining cybersecurity against any person, including a democratic institution, or government on behalf of the Government of the Russian Federation.

Also designated pursuant to section 224(a)(1)(B) of CAATSA, for acting or purporting to act for or on behalf of, directly or indirectly, the MAIN INTELLIGENCE DIRECTORATE, an entity whose property and interests in property are blocked pursuant to 224(a)(1)(A) of CAATSA.

16. YERMAKOV, Ivan Sergeyevich, Russia; DOB 10 Apr 1986; nationality Russia; Gender Male (individual) [CAATSA-RUSSIA] (Linked To: MAIN INTELLIGENCE DIRECTORATE).

Designated pursuant to section 224(a)(1)(A) of CAATSA, for knowingly engaging in significant activities undermining cybersecurity against any person, including a democratic institution, or government on behalf of the Government of the Russian Federation.

Also designated pursuant to section 224(a)(1)(B) of CAATSA, for acting or purporting to act for or on behalf of, directly or indirectly, the MAIN INTELLIGENCE DIRECTORATE, an entity whose property and interests in property are blocked pursuant to 224(a)(1)(A) of CAATSA.

17. KHUSYAYNOVA, Elena Alekseevna, St. Petersburg, Russia; DOB 17 Feb 1974; Gender Female; Passport 639092215 (Russia) (individual) [CYBER2] (Linked To: LIMITED LIABILITY COMPANY CONCORD MANAGEMENT AND CONSULTING).

Designated pursuant to section 1(a)(iii)(C) of Executive Order 13694 of April 1, 2015, “Blocking the Property of Certain Persons Engaging in Significant

Malicious Cyber-Enabled Activities”, as amended by Executive Order 13757 of December 28, 2016, “Taking Additional Steps to Address the National Emergency With Respect to Significant Malicious Cyber-Enabled Activities” (E.O. 13694, as amended) for having acted or purported to act for or on behalf of LIMITED LIABILITY COMPANY CONCORD MANAGEMENT AND CONSULTING, an entity whose property and interests in property are blocked pursuant to E.O. 13694, as amended.

Also designated pursuant to section 1(a)(iii)(C) of E.O. 13694, as amended, for having acted or purported to act for or on behalf of CONCORD CATERING, an entity whose property and interests in property are blocked pursuant to E.O. 13694, as amended.

18. MALKEVICH, Alexander Aleksandrovich, St. Petersburg, Russia; DOB 14 Jun 1975; POB Leningrad, Russia; Gender Male; Passport 717637093 (Russia); National ID No. 781005202108 (individual) [CYBER2] (Linked To: USA REALLY).

Designated pursuant to section 1(a)(iii)(C) of E.O. 13694, as amended, for having acted or purported to act for or on behalf of USA REALLY, an entity whose property and interests in property are blocked pursuant to E.O. 13694, as amended.

Entities

1. ECONOMY TODAY LLC (a.k.a. EKONOMIKA SEGODNYA), d. 19 Litera A. Pom. 423, Ul. Zhukova, St. Petersburg, Russia [CYBER2] (Linked To: LIMITED LIABILITY COMPANY CONCORD MANAGEMENT AND CONSULTING).

Designated pursuant to section 1(a)(iii)(C) of E.O. 13694, as amended, for being owned or controlled by, and for having acted or purported to act for or on behalf of LIMITED LIABILITY COMPANY CONCORD MANAGEMENT AND CONSULTING, an entity whose property and interests in property are blocked pursuant to E.O. 13694, as amended.

Also designated pursuant to section 1(a)(iii)(C) of E.O. 13694, as amended, for being owned or controlled by, and for having acted or purported to act for or on behalf of CONCORD CATERING, an entity whose property and interests in property are blocked pursuant to E.O. 13694, as amended.

2. FEDERAL NEWS AGENCY LLC (a.k.a. FEDERALNOE AGENTSTVO NOVOSTEI OOO), d. 18 litera A. pom. 2-N, UL. Vsevoloda Vishnevskogo, St. Petersburg, Russia; Moscow, Russia [CYBER2] (Linked To: LIMITED LIABILITY COMPANY CONCORD MANAGEMENT AND CONSULTING).

Designated pursuant to section 1(a)(iii)(C) of E.O. 13694, as amended, for being owned or controlled by, and for having acted or purported to act for or on behalf of LIMITED LIABILITY COMPANY CONCORD MANAGEMENT AND CONSULTING, an entity whose property and interests in property are blocked pursuant to E.O. 13694, as amended.

Also designated pursuant to section 1(a)(iii)(C) of E.O. 13694, as amended, for being owned or controlled by and for having acted or purported to act for or on behalf of CONCORD CATERING, an entity whose property and interests in property are blocked pursuant to E.O. 13694, as amended.

3. NEVSKIY NEWS LLC (a.k.a. NEVNOV; a.k.a. NEVSKIYE NOVOSTI), d. 11 korp. 2 pom. 327-N, ul. Staroderevenskaya, St. Petersburg, Russia [CYBER2] (Linked To: LIMITED LIABILITY COMPANY CONCORD MANAGEMENT AND CONSULTING).

Designated pursuant to section 1(a)(iii)(C) of E.O. 13694, as amended, for being owned or controlled by, and for having acted or purported to act for or on behalf of LIMITED LIABILITY COMPANY CONCORD MANAGEMENT AND CONSULTING, an entity whose property and interests in property are blocked pursuant to E.O. 13694, as amended.

Also designated pursuant to section 1(a)(iii)(C) of E.O. 13694, as amended, for being owned or controlled by, and for having acted or purported to act for or on behalf of CONCORD CATERING, an entity whose property and interests in property are blocked pursuant to E.O. 13694, as amended.

4. USA REALLY, St. Petersburg, Russia; Moscow, Russia; website www.usareally.com [CYBER2] (Linked To: FEDERAL NEWS AGENCY LLC).

Designated pursuant to section 1(a)(iii)(C) of E.O. 13694, as amended, for being owned or controlled by, and for having acted or purported to act for or on behalf of the FEDERAL NEWS AGENCY LLC, an entity whose property and interests in property are blocked pursuant to E.O. 13694, as amended.

Dated: December 19, 2018.
Andrea Gacki,
Director, Office of Foreign Assets Control.

[FR Doc. 2018-27963 Filed 12-26-18; 8:45 am]

BILLING CODE 4810-AL-P